DEPARTMENT OF ENERGY

Federal Energy Regulatory Commission

[Docket No. PF09-11-000]

TransCanada Alaska Company, LLC; Notice of Public Scoping Meeting for the Planned Alaska Pipeline Project

The staff of the Federal Energy Regulatory Commission (FERC or Commission) hereby announces a public scoping meeting in Anchorage, Alaska, for the planned Alaska Pipeline Project (APP). The meeting will take place at:

Date and time | Location
Monday, February 13, 2012, 7 p.m. | Dena'ina Center, Kahtu Room, 600 West 7th Avenue, Anchorage, AK 99501.

This meeting was previously cancelled on January 4, 2012, because TransCanada Alaska Company, LLC (TC Alaska) had not filed its draft Resource Reports, which we deemed necessary to properly evaluate and comment on this unique and complex project. On January 13, 2012, TC Alaska filed its draft Resource Reports, thereby allowing us to reschedule this scoping meeting.

More information about the Commission's environmental impact statement, the APP, and how to file comments is available in the Notice of Intent to Prepare an Environmental Impact Statement for the Planned Alaska Pipeline Project and Request for Comments on Environmental Issues (NOI), issued on August 1, 2011. The NOI describes the scoping process that is underway seeking public participation in the environmental review of this planned project. Please note that the scoping period for the APP will close on February 27, 2012.

Dated: January 20, 2012.
Kimberly D. Bose,
Secretary.

[FR Doc. 2012-1732 Filed 1-26-12; 8:45 am]

BILLING CODE 6717-01-P